DEPARTMENT OF THE INTERIOR

Bureau of Land Management

[LLCON06000 L16100000.DO]

Notice of Intent To Prepare a Resource Management Plan for the Dominguez-Escalante National Conservation Area and Dominguez Canyon Wilderness, Colorado and Associated Environmental Impact Statement

AGENCY: Bureau of Land Management, Interior.

ACTION: Notice of Intent.

SUMMARY: In compliance with the National Environmental Policy Act of 1969 (NEPA), as amended, the Federal Land Policy and Management Act of 1976 (FLPMA), as amended, and the Omnibus Public Lands Management Act of 2009 (Omnibus Act), the Bureau of Land Management (BLM) Grand Junction and Uncompahgre Field Offices, Grand Junction and Montrose, Colorado intend to prepare a Resource Management Plan (RMP) with an associated Environmental Impact Statement (EIS) for the Dominguez-Escalante National Conservation Area (NCA) and Dominguez Canyon Wilderness. By this notice, the BLM is announcing the beginning of the scoping process to solicit public comments and identify issues.

DATES: This notice initiates the public scoping process for the RMP with associated EIS. Comments on issues and planning criteria may be submitted in writing until September 2, 2010. The date(s) and location(s) of any scoping meetings will be announced at least 15 days in advance through local media, newspapers, and the Colorado BLM Web site at: http://www.blm.gov/co/st/en/nca/denca/denca_rmp.html. In order to be considered in the development of the Draft RMP/EIS, all comments must be received prior to the close of the 30 day scoping period or 30 days after the last public meeting, whichever is later. The BLM will provide additional opportunities for public participation upon publication of the Draft RMP/EIS.

ADDRESSES: You may submit comments on issues and planning criteria related to the Dominguez-Escalante NCA and Dominguez Canyon Wilderness RMP/EIS at any public scoping meeting or by any of the following methods:

• Web site: http://www.blm.gov/co/st/en/nca/denca/denca_rmp.html.

• E-mail: dencarmp@blm.gov.

• Fax: 970-244-3083.

• Mail: Grand Junction Field Office, 2815 H Road, Grand Junction, Colorado 81506.

Documents pertinent to this proposal may be examined at the Grand Junction Field Office.

FOR FURTHER INFORMATION CONTACT: For more information and/or to have you name added to our mailing list, contact Katie A. Stevens, Interim NCA Manager, telephone (970) 244-3049; address 2815 H Road, Grand Junction, Colorado 81506; or by e-mail: Katie_A_Stevens@blm.gov.

SUPPLEMENTARY INFORMATION: The RMP will replace portions of the existing 1987 Grand Junction Resource Area RMP and the 1989 Uncompahgre Basin RMP. This new planning process will allow the BLM to focus specifically on developing management to conserve, protect and enhance the resources and values of the NCA and the wilderness area as set forth in Section 2402(b) of the Omnibus Act, including the geological, cultural, archaeological, paleontological, natural, scientific, recreational, wilderness, wildlife, riparian, historical, educational, and scenic resources of the public land; and the water resources of area streams, based on seasonally available flows, that are necessary to support aquatic, riparian, and terrestrial species and communities. In developing new management for the NCA and Wilderness Area, the BLM will comply with the direction set forth in the Omnibus Act, which allows certain uses (including grazing, measures to control fire, insects and disease) to continue in accordance with current laws and regulations. The Omnibus Act also withdraws the NCA and the Wilderness Area from certain other uses, including all forms of entry, appropriation, or disposal under the public land laws; location, entry, and patent under the mining laws; and operation of the mineral leasing, mineral materials, and geothermal leasing laws, subject to valid existing rights. Congress' withdrawal of the area to these uses may foreclose certain alternatives. However, the withdrawal in and of itself does not necessarily preclude consideration of these uses in the RMP.

The planning area is located in Mesa, Delta, and Montrose Counties, Colorado and encompasses approximately 209,610 acres of public land. The purpose of the public scoping process is to determine relevant issues that will influence the scope of the environmental analysis, including alternatives, and guide the planning process. Preliminary issues for the planning area have been identified by BLM personnel, Federal, state, and local agencies, and other stakeholders. The issues include:

• Is special management needed to restore, maintain, or enhance priority species (including special status species) and their habitats?

• How should uses, including recreational, grazing, and motorized and mechanized vehicle use be managed to provide for wildlife (including special status species) habitat needs?

• What goals, objectives, and management actions, including desired future conditions and land restoration actions, are necessary to continue progress toward achieving land health standards?

• What goals, objectives and management actions, including desired future conditions and riparian and aquatic restoration actions, are necessary to ensure that these water resources are of sufficient quality and quantity to support aquatic, riparian, and terrestrial species and communities?

• How should the Dominguez Canyon Wilderness be managed to protect wilderness values and provide outstanding opportunities for solitude and/or primitive and unconfined recreation?

• Is special management still warranted for the relevant and important values recognized in the two existing Areas of Critical Environmental Concern (ACEC) nominations, and should additional lands be considered for ACEC status?

• What stream segments are suitable for designation as Wild, Scenic, or Recreational under the Wild and Scenic Rivers Act?

• What Visual Resource Management classes will be necessary outside the wilderness to provide adequate protection for the scenic resources and visual quality of the NCA?

• How should the cultural resources and archaeological values (prehistoric and historic) of the area be protected and preserved, while still allowing for appropriate information/education efforts?

• What recreational experiences and outcomes should be used to focus future recreation management in the NCA?

Preliminary planning criteria include:

• Completing the RMP in compliance with FLPMA, NEPA, the Omnibus Act, and all other applicable laws, rules, regulations, policies, and guidelines (including environmental laws and Executive Orders listed as supplemental authorities in Appendix 1 of the NEPA Handbook H-1790-1);

• Ensuring that proposed management within the wilderness is consistent with the Wilderness Act of 1964 and develop a Wilderness Management Plan during the RMP process;

• Initiating broad-based public participation as an integral part of the planning and EIS development process;

• Working with the Dominguez-Escalante National Conservation Area Advisory Council consistent with their established charter;

• Inviting cooperating agency and local government input;

• Consulting with Native American Tribes and other governments at required intervals;

• Developing adaptive management criteria and protocols and also clearly identify the criteria that would trigger re-evaluation of management;

• Developing a comprehensive travel management plan during the RMP process to identify all travel needs for the public, as well as administrative and resource management activities such as research and monitoring, permitting, or emergency or fire access;

• Designating all public lands within the planning area as open, limited, or closed to off-road vehicle use, mechanized use, and/or non-motorized use;

• Incorporating Standards for Public Land Health and Guidelines for Livestock Grazing Management into the planning process; and

• Responding to the Omnibus Act by developing management to “conserve and protect for the benefit and enjoyment of present and future generations [those resources and values identified as purposes in the legislation, including the] geological, cultural, archeological, paleontological, natural, scientific, recreational, wilderness, wildlife, riparian, historical, educational, and scenic resources of the public land; and the water resources of area streams, based on seasonally available flows, that are necessary to support aquatic, riparian, and terrestrial species and communities.”

Before including your address, phone number, e-mail address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed.

The BLM will evaluate identified issues to be addressed in the plan, and will place them into one of three categories:

1. Issues to be resolved in the plan;

2. Issues to be resolved through policy or administrative action; or

3. Issues beyond the scope of this plan. A public comment that suggests developing management for one of the resource uses from which the area was withdrawn by the legislation would likely fall within this category.

The BLM will provide an explanation in the Draft RMP/EIS as to why an issue was placed in category two or three. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: rangeland management, minerals and geology, forestry, outdoor recreation, wilderness, archaeology, paleontology, wildlife and fisheries, lands and realty, hydrology, soils, sociology and economics.

Authority: 40 CFR 1501.7, 43 CFR 1610.

Lynn E. Rust,
Acting State Director.

[FR Doc. 2010-19060 Filed 8-2-10; 8:45 am]

BILLING CODE 4310-JB-P